NATIONAL SCIENCE FOUNDATION

Agency Information Collection Activities: Comment Request; Louis Stokes Alliances for Minority Participation (LSAMP) Program Evaluation

AGENCY: National Science Foundation.

ACTION: Notice.

SUMMARY: The National Science Foundation (NSF) is announcing plans to establish this collection. In accordance with the requirements of the Paperwork Reduction Act of 1995, we are providing the opportunity for public comment on this action. After obtaining and considering public comment, NSF will prepare the submission requesting Office of Management and Budget (OMB) clearance of this collection for no longer than 3 years.

DATES: Written comments on this notice must be received by December 2, 2024 to be assured consideration. Comments received after that date will be considered to the extent practicable. Send comments to the address below.

FOR FURTHER INFORMATION CONTACT: Suzanne H. Plimpton, Reports Clearance Officer, National Science Foundation, 2415 Eisenhower Avenue, Suite E6447, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

Comments: Comments regarding (a) whether the proposed collection of information is necessary for the proper performance of the functions of the NSF, including whether the information shall have practical utility; (b) the accuracy of the NSF's estimate of the burden of the proposed collection of information; (c) ways to enhance the quality, use, and clarity of the information on respondents; and (d) ways to minimize the burden of the collection of information on those who are to respond, including through the use of appropriate automated, electronic, mechanical, or other technological collection techniques or other forms of information technology should be addressed to the points of contact in the FOR FURTHER INFORMATION CONTACT section.

SUPPLEMENTARY INFORMATION:

Title of Collection: Louis Stokes Alliances for Minority Participation (LSAMP) Program Evaluation.

OMB Control No.: 3145-New.

Expiration Date of Approval: Not applicable.

Abstract: This proposed data collection is a core component of a larger comprehensive evaluation strategy to assess the effectiveness and impact of the Louis Stokes Alliances for Minority Participation (LSAMP) program, funded through grants from the National Science Foundation (NSF). The LSAMP program invests in the Nation's colleges and universities to aid student success to create a new generation of science, technology, engineering and mathematics (STEM) discovers for the national STEM enterprise. The program is an alliance-based program, whereby a group of institutions of higher education (IHEs) and other non-academic organizations join to increase the number of STEM baccalaureate and graduate degrees awarded to persons from racial/ethnic populations underrepresented in STEM disciplines.

The current evaluation examines the experiences of alliance personnel and student participants at lead and partner institutions since the last full evaluation (which concluded in 2005) at ten alliances. The ten alliances were selected by the NSF in collaboration with NORC at the University of Chicago, the evaluation partner who will conduct all data collection. A key component of the site selection process has been to assure variability in representation, to include diverse two and four-year institutions, taking into consideration institution type, student populations, geography.

This work will enable the program to better understand where successes can be modeled and opportunities can be identified to better support the underrepresented students in these fields, by encouraging greater inclusion in academic and professional development opportunities. For this data collection, NSF is seeking approval to conduct interviews and focus groups with individuals who are affiliated with the LSAMP alliances at the pre-identified sites using the procedures discussed below.

Respondents: LSAMP Administrators, Faculty and Staff (200); LSAMP Students (120).

Estimated Number of Annual Respondents: 320.

Burden on the Public: Estimated 1-3 hours to participate in an interview or focus group (1 hour for staff and students, 3 hours for coordinators/provosts or other leaders). The estimated burden time is 750 hours.

Dated: September 26, 2024.
Suzanne H. Plimpton,
Reports Clearance Officer, National Science Foundation.

[FR Doc. 2024-22588 Filed 10-1-24; 8:45 am]

BILLING CODE 7555-01-P